DEPARTMENT OF COMMERCE

Bureau of Industry and Security

[Docket No. 0810091342-81349-01]

Effectiveness of Licensing Procedures for Agricultural Commodities to Cuba

AGENCY: Bureau of Industry and Security, Commerce.

ACTION: Request for comments.

SUMMARY: The Bureau of Industry and Security (BIS) is requesting public comments on the effectiveness of its licensing procedures as defined in the Export Administration Regulations for the export of agricultural commodities to Cuba. BIS will include a description of these comments in its biennial report to the Congress, as required by the Trade Sanctions Reform and Export Enhancement Act of 2000 (22 U.S.C. 7201 et seq.), as amended.

DATES: Comments must be received by November 28, 2008.

ADDRESSES: Written comments may be sent by email to publiccomments@bis.doc.gov with a reference to “TSRA 2008 Report” in the subject line. Written comments may be submitted by mail to Regulatory Policy Division, Bureau of Industry and Security, U.S. Department of Commerce, Room 2705, Washington, DC 20230 with a reference to “TSRA 2008 Report.”

FOR FURTHER INFORMATION CONTACT: Alan W. Christian, Office of Nonproliferation and Treaty Compliance, Telephone: (202) 482-4252. Additional information on BIS procedures and our previous biennial report under the Trade Sanctions Reform and Export Enhancement Act, as amended, are available at http://www.bis.doc.gov/licensing/TSRA_TOC.html. Copies of these materials may also be requested by contacting the Office of Nonproliferation and Treaty Compliance.

The public comments are displayed on BIS's Freedom of Information Act (FOIA) Web site at http://www.bis.doc.gov/foia. If you have technical difficulties accessing this Web site, please call BIS's Office of Administration at (202) 482-2165 for assistance.

SUPPLEMENTARY INFORMATION: The Bureau of Industry and Security (BIS) authorizes exports of agricultural commodities to Cuba pursuant to section 906(a) of the Trade Sanctions Reform and Export Enhancement Act of 2000 (TSRA) (22 U.S.C. 7205(a)), under the procedures set forth in section 740.18 of the Export Administration Regulations (EAR) (15 CFR 740.18). These are the only licensing procedures in the EAR currently in effect pursuant to the requirements of section 906(a) of TSRA.

Under the provisions of section 906(c) of TSRA (22 U.S.C. 7205(c)), BIS must submit a biennial report to the Congress on the operation of the licensing system implemented pursuant to section 906(a) for the preceding two-year period. This report is to include the number and types of licenses applied for, the number and types of licenses approved, the average amount of time elapsed from the date of filing of a license application until the date of its approval, the extent to which the licensing procedures were effectively implemented, and a description of comments received from interested parties during a 30-day public comment period about the effectiveness of the licensing procedures. BIS is currently preparing a biennial report on the operation of the licensing system for the two-year period from October 1, 2006 through September 30, 2008.

By this notice, BIS requests public comments on the effectiveness of the licensing procedures for the export of agricultural commodities to Cuba set forth under section 740.18 of the EAR. Parties submitting comments are asked to be as specific as possible. All comments received by the close of the comment period will be considered by BIS in developing the report to Congress.

All information relating to the notice will be a matter of public record and will be available for public inspection and copying. In the interest of accuracy and completeness, BIS requires written comments.

Dated: October 24, 2008.
Christopher R. Wall,
Assistant Secretary for Export Administration.

[FR Doc. E8-25834 Filed 10-28-08; 8:45 am]

BILLING CODE 3510-33-P